DEPARTMENT OF ENERGY

Federal Energy Regulatory Commission

Notice of Availability of a Memorandum of Understanding Between the Federal Energy Regulatory Commission and the U.S. Fish and Wildlife Service To Promote Conservation of Migratory Birds

This notice announces the availability of a Memorandum of Understanding (MOU) between the Federal Energy Regulatory Commission (FERC) and the U.S. Fish and Wildlife Service (FWS) to Promote Conservation of Migratory Birds signed March 30, 2011. The MOU provides for strengthening migratory bird conservation by identifying and implementing strategies that promote conservation and reduce or eliminate adverse impacts on migratory birds through enhanced collaboration between FERC and FWS.

The MOU identifies specific activities where cooperation between FERC and FWS will contribute to the conservation of migratory birds and their habitat, and outlines a collaborative approach to promoting the conservation of migratory bird populations and furthering implementation of the migratory bird conventions, the Migratory Bird Treaty Act, the Bald and Golden Eagle Protection Act, and other pertinent statutes. The implementation of the MOU will be coordinated through ongoing communication between the FERC Office of Energy Projects and the FWS Division of Migratory Bird Management.

The MOU will be available on the FERC (http://www.ferc.gov/legal/maj-ord-reg/mou.asp) and FWS (http://www.fws.gov/migratorybirds/PartnershipsAndIniatives.html) Web sites.

For further information, contact Alan Mitchnick, 202-502-6074, alan.mitchnick@ferc.gov (hydropower); Medha Kochhar, 202-502-8964, medha.kochhar@ferc.gov (natural gas pipelines); or Shannon Crosley, 202-502-8853, shannon.crosley@ferc.gov (transmission lines).

Dated: March 30, 2011.
Kimberly D. Bose,
Secretary.

[FR Doc. 2011-8021 Filed 4-4-11; 8:45 am]

BILLING CODE 6717-01-P